DEPARTMENT OF HEALTH AND HUMAN SERVICES

Food and Drug Administration

21 CFR Part 146

[Docket No. FDA-2022-P-1668]

Food Standards of Identity Modernization; Pasteurized Orange Juice; Proposed Rule; Correction

AGENCY: Food and Drug Administration, HHS.

ACTION: Proposed rule.

SUMMARY: The Food and Drug Administration (FDA or we) is correcting the proposed rule entitled “Food Standards of Identity Modernization; Pasteurized Orange Juice; Proposed Rule” (90 FR 37817, August 6, 2025). In the proposed rule, FDA proposed to amend the standard of identity (SOI) for pasteurized orange juice (POJ) by lowering the minimum orange juice soluble solids content from 10.5° to 10° Brix. The proposed rule inadvertently included an additional summary of benefits table, an additional summary table and an extraneous paragraph and sentence. This document corrects those errors.

DATES: August 14, 2025.

FOR FURTHER INFORMATION CONTACT: Keronica Richardson, Office of Policy, Regulations, and Information, Human Foods Program, Food and Drug Administration, 5001 Campus Dr., College Park, MD 20740, 240-402-2378.

SUPPLEMENTARY INFORMATION: In FR Doc. 2025-14949, appearing on pages 37822 to 37823 in the Federal Register of Wednesday, August 6, 2025, the following corrections are made:

1. In the Supplementary Information section, in subsection VII: Preliminary Economic Analysis of Impact, on page 37822, remove the extraneous paragraph starting with the sentence, “The proposed rule, if finalized, would not require firms in the POJ industry to change their manufacturing practices or behavior in any way” and ending with the sentence, “We request comment on our described benefits and costs of the proposed rule.”

2. In the Supplementary Information section, in subsection VII: Preliminary Economic Analysis of Impact, on page 37823, remove “Table 1—Summary of Benefits, Costs and Distributional Effects of the Proposed Rule”.

3. In the Supplementary Information section, in subsection VII: Preliminary Economic Analysis of Impact, on page 37823, remove the extraneous sentence “In line with Executive Order 14192, in 2 we estimate present and annualized values of cost, cost savings, and net costs over an infinite time horizon.”

4. In the Supplementary Information section, in subsection VII: Preliminary Economic Analysis of Impact, on page 37823, remove “Table 2—E.O. 14192 Summary Table”.

The full preliminary analysis of economic impacts remains available in the docket for this proposed rule (Ref. 2) and at https://www.fda.gov/about-fda/economics-staff/regulatory-impact-analyses-ria.

Dated: August 11, 2025.
Grace R. Graham,
Deputy Commissioner for Policy, Legislation, and International Affairs.

[FR Doc. 2025-15473 Filed 8-13-25; 8:45 am]

BILLING CODE 4164-01-P